NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Date/Time: March 30, 2016; 9:00 a.m.-5:30 p.m. March 31, 2016; 9:00 a.m.-3:00 p.m.

Place: National Science Foundation, 4201 Wilson Blvd., Arlington, VA 22230.

Type of Meeting: Open.

Contact Person: Dr. Stephen Meacham, Senior Staff Associate, Office of Integrative Activities/Office of the Director/National Science Foundation (Email: smeacham@nsf.gov/Telephone: (703) 292-8040).

Minutes: May be obtained from http://www.nsf.gov/geo/ere/ereweb/minutes.cfm.

Purpose Of Meeting: To provide advice, recommendations, and oversight concerning support for environmental research and education.

Agenda: (Tentative) Approval of minutes from past meetings. Updates on agency support for environmental research and activities. Discussion with NSF Director and Assistant Directors. Discussion of emerging research topics in environmental science, engineering and education. Updated agenda will be available at http://www.nsf.gov/geo/ere/ereweb/minutes.cfm.

Dated: January 28, 2016.
Crystal Robinson,
Committee Management Officer.

[FR Doc. 2016-01869 Filed 2-2-16; 8:45 am]

BILLING CODE 7555-01-P